FEDERAL ELECTION COMMISSION

Sunshine Act Meetings

AGENCY: Federal Election Commission.

DATES AND TIME: Thursday, July 13, 2017 at 10:00 a.m.

PLACE: 999 E Street NW., Washington, DC (Ninth Floor).

STATUS: This meeting was open to the public.

FEDERAL REGISTER NOTICE OF PREVIOUS ANNOUNCEMENT: 82 FR 31779.

THE FOLLOWING ITEM WAS ALSO DISCUSSED: Proposed Interim Enforcement Policy on Use of Campaign Funds by Members of Congress for Residential Security Systems.

PERSON TO CONTACT FOR INFORMATION: Judith Ingram, Press Officer; Telephone: (202) 694-1220.

Dayna C. Brown,
Secretary and Clerk of the Commission.

[FR Doc. 2017-15103 Filed 7-14-17; 11:15 am]

BILLING CODE 6715-01-P